DEPARTMENT OF ENERGY

Federal Energy Regulatory Commission

[Docket No. RP03-384-001]

North Baja Pipeline, LLC; Notice of Compliance Filing

July 8, 2003.

Take notice that on July 1, 2003, North Baja Pipeline, LLC (NBP), tendered for filing to be part of its FERC Gas Tariff, Original Volume No. 1, Fourth Revised Sheet No. 201, with an effective date of July 1, 2003.

NBP states that this tariff sheet is being submitted in compliance with the Commission's June 27, 2003 Order in this docket.

NBP further states that a copy of this filing has been served on NBP's jurisdictional customers and interested state regulatory agencies.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 14, 2003.

Magalie R. Salas,
Secretary.

[FR Doc. 03-17677 Filed 7-11-03; 8:45 am]

BILLING CODE 6717-01-P